FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's website (www.fmc.gov) or by contacting the Office of Agreements at (202)-523-5793 or tradeanalysis@fmc.gov.

Agreement No.: 012447-001.

Title: THE Alliance/Zim MED-USEC Slot Exchange Agreement.

Parties: Hapag-Lloyd AG; Kawasaki Kisen Kaisha, Ltd.; Mitsui O.S.K. Lines, Ltd.; Nippon Yusen Kaisha; Yang Ming Marine Transport Corporation; Yang Ming (UK) Ltd.; and Zim Integrated Shipping Services Ltd.

Filing Party: Joshua Stein; Cozen O'Connor; 1200 Nineteenth Street NW, Washington, DC 20036.

Synopsis: The amendment revises the Agreement to provide for the transition that will occur following the combination of the container liner operations of Kawasaki Kisen Kaisha, Ltd.; Mitsui O.S.K. Lines, Ltd.; and Nippon Yusen Kaisha into a new company known as Ocean Network Express Pte. Ltd. effective April 1, 2018. Ocean Network Express Pte. Ltd. is added as a party. In addition, the amendment adds Yang Ming (UK) Ltd. as a party (operating as a single party with Yang Ming Marine Transport Corp.).

Agreement No.: 012488-001.

Title: THE Alliance/OOCL Vessel Sharing Agreement.

Parties: Hapag-Lloyd AG; Kawasaki Kisen Kaisha, Ltd.; Mitsui O.S.K. Lines, Ltd.; Nippon Yusen Kaisha; Yang Ming Marine Transport Corporation; Yang Ming (UK) Ltd.; and Orient Overseas Container Line Limited.

Filing Party: Joshua Stein; Cozen O'Connor; 1200 Nineteenth Street NW, Washington, DC 20036.

Synopsis: The amendment revises the Agreement to provide for the transition that will occur following the combination of the container liner operations of Kawasaki Kisen Kaisha, Ltd.; Mitsui O.S.K. Lines, Ltd.; and Nippon Yusen Kaisha into a new company known as Ocean Network Express Pte. Ltd. effective April 1, 2018. Ocean Network Express Pte. Ltd. is added as a party. In addition, the amendment adds Yang Ming (UK) Ltd. as a party (operating as a single party with Yang Ming Marine Transport Corp.).

Agreement No.: 201240.

Title: Husky—Ports America Washington Marine Terminal Cooperative Working Agreement.

Parties: Ports America Washington, Inc. and Husky Terminal and Stevedoring, Inc.

Filing Party: Eric Lee; Holland & Knight LLP; 800 17th Street NW, Suite 1100, Washington, DC 20006.

Synopsis: The Agreement authorizes the parties to (1) establish and maintain terminal rates, service charges and fees, rules, and practices related to their operations at terminals owned and operated by them at the Port of Tacoma, and (2) meet, discuss, exchange information and data, and agree on issues regarding their respective operations, facilities, and services at the Port.

Agreement No.: 201241.

Title: Tacoma Marine Terminal Operator Conference Agreement.

Parties: Husky Terminal and Stevedoring, Inc. and Washington United Terminals, Inc.

Filing Party: Eric Lee; Holland & Knight LLP; 800 17th Street NW, Suite 1100, Washington, DC 20006.

Synopsis: The Agreement authorizes the parties to establish and maintain rates, charges, schedules, classifications, regulations, rules, and practices related to operations, facilities, and services at marine terminals owned or operated by the parties at the Port of Tacoma.

Agreement No.: 201242.

Title: Tacoma Marine Terminal Operator Cooperative Working Agreement.

Parties: Husky Terminal and Stevedoring, Inc. and Washington United Terminals, Inc.

Filing Party: Eric Lee; Holland & Knight LLP; 800 17th Street NW, Suite 1100, Washington, DC 20006.

Synopsis: The Agreement authorizes the parties to discuss and agree on various operational issues at facilities in the Port of Tacoma.

Dated: February 20, 2018.
Rachel E. Dickon,
Secretary.

[FR Doc. 2018-03750 Filed 2-22-18; 8:45 am]

BILLING CODE 6731-AA-P